DEPARTMENT OF LABOR

Employment and Training Administration

[TA-W-65, 359]

The Modesto Bee; Ad Production Group; Modesto, CA; Notice of Termination of Investigation

Pursuant to Section 221 of the Trade Act of 1974, as amended, an investigation was initiated on February 24, 2009, in response to a worker petition filed on behalf of workers at The Modesto Bee; Ad Production Group; Modesto, California.

The petitioning group of workers is covered by an active certification (TA-W-64, 860) which expires on February 11, 2011.

Consequently, further investigation in this case would serve no purpose, and the investigation has been terminated.

Signed at Washington, DC this 25th day of February 2009.
Elliott S. Kushner,
Certifying Officer, Division of Trade Adjustment Assistance.

[FR Doc. E9-5036 Filed 3-9-09; 8:45 am]

BILLING CODE 4510-FN-P